DEPARTMENT OF TRANSPORTATION

National Highway Traffic Safety Administration

49 CFR Part 571

[Docket No. NHTSA-01-10636]

RIN 2127-AH24

Federal Motor Vehicle Safety Standards; Occupant Crash Protection; Correction

AGENCY: National Highway Traffic Safety Administration (NHTSA); Department of Transportation.

ACTION: Correcting amendments.

SUMMARY: This rule corrects an error in the neck injury criteria that are specified for the alternative unbelted sled test included in our occupant protection standard. We revised certain of the neck injury criteria in a final rule; correcting amendment published in the Federal Register (63 FR 71390) on December 28, 1998. However, we have become aware that, as a result of that final rule; correcting amendment, portions of the neck injury criteria that were not revised were inadvertently deleted from the standard as published in the Code of Federal Regulations. This document reinstates the inadvertently deleted criteria.

DATES: This final rule is effective September 19, 2001.

FOR FURTHER INFORMATION CONTACT: For non-legal issues, you may contact Dr. Roger A. Saul, Director, Office of Crashworthiness Standards, NPS-10. Telephone: (202) 366-1740. Fax: (202) 493-2739. E-mail: Roger.Saul@NHTSA.dot.gov.

For legal issues, you may contact Edward Glancy or Rebecca MacPherson, Office of Chief Counsel, NCC-20. Telephone: (202) 366-2992. Fax: (202) 366-3820.

You may send mail to these officials at the National Highway Traffic Safety Administration, 400 Seventh St., SW, Washington, DC, 20590.

SUPPLEMENTARY INFORMATION: Standard No. 208, Occupant Crash Protection, includes among its requirements certain neck injury criteria for the unbelted sled test. On December 28, 1998, we published in the Federal Register (63 FR 71390) a final rule; correcting amendment that, among other things, clarified that two of the neck injury criteria, flexion bending moment and extension bending moment, are calculated at the occipital condyle. We have become aware that, as a result of that final rule; correcting amendment, the three other neck injury criteria, axial tension, axial compression, and fore-and-aft shear, were inadvertently deleted from the standard as published in the Code of Federal Regulations. This document reinstates the inadvertently deleted criteria.

List of Subjects in 49 CFR Part 571

Imports, Motor vehicle safety, Motor vehicles, Rubber and rubber products, Tires.

In consideration of the foregoing, NHTSA amends 49 CFR part 571 as follows:

PART 571—FEDERAL MOTOR VEHICLE SAFETY STANDARDS

1. The authority citation for Part 571 of Title 49 continues to read as follows:

Authority: 49 U.S.C. 322, 30111, 30115, 30117, and 30166; delegation of authority at 49 CFR 1.50.

2. Section 571.208 is amended by revising S13.2 to read as follows:

§ 571.208 Standard No. 208; Occupant crash protection.

* * * * *

S13.2 Neck injury criteria. A vehicle certified to this alternative test requirement shall, in addition to meeting the criteria specified in S13.1, meet the following injury criteria for the neck, measured with the six axis load cell (ref. Denton drawing C-1709) that is mounted between the bottom of the skull and the top of the neck as shown in Drawing 78051-218, in the unbelted sled test:

(a) Flexion Bending Moment (calculated at the occipital condyle)—190 Nm. SAE Class 600.

(b) Extension Bending Moment (calculated at the occipital condyle)—57 Nm. SAE Class 600.

(c) Axial Tension—3300 peak N. SAE Class 1000.

(d) Axial Compression—4000 peak N. SAE Class 1000.

(e) Fore-and-Aft Shear—3100 peak N. SAE Class 1000.

* * * * *

Issued on: September 14, 2001.
Stephen R. Kratzke,
Associate Administrator for Safety Performance Standards.

[FR Doc. 01-23342 Filed 9-18-01; 8:45 am]

BILLING CODE 4910-59-P